DEPARTMENT OF AGRICULTURE

5 CFR Part 8301

RIN 3209-AA15

Supplemental Standards of Ethical Conduct for Employees of the Department of Agriculture

AGENCY: Department of Agriculture (USDA).

ACTION: Final rule.

SUMMARY: The Department of Agriculture, with the concurrence of the Office of Government Ethics (OGE), amends the Supplemental Standards of Ethical Conduct for Employees of the Department of Agriculture (Supplement) to comply with section 5321 of the Farm Security and Rural Investment Act of 2002, Public Law 107-171, by removing a provision that is no longer effective.

EFFECTIVE DATE: These regulations are effective September 16, 2002.

FOR FURTHER INFORMATION CONTACT: Raymond J. Sheehan, Director, Office of Ethics, U.S. Department of Agriculture, Room 348-W—Stop 0122, 1400 Independence Avenue, SW., Washington, DC 20250-0122, telephone (202) 720-2251.

SUPPLEMENTARY INFORMATION:

I. Background

On October 2, 2000, with the concurrence and co-signature of OGE, USDA published its final rule establishing supplemental standards of ethical conduct for employees of USDA (65 FR 58635-58638). Section 8301.103 addressed additional rules applicable to employees of the Farm Service Agency (FSA). Paragraph (c) of § 8301.103 prohibited FSA employees and spouses and minor children of FSA employees from seeking directly or indirectly a “direct loan” under paragraph (a)(9) of section 33 of the Consolidated Farm and Rural Development Act (CFRDA), 7 U.S.C. 1991(a)(9). On May 13, 2002, President Bush signed into Public Law 107-171, the Farm Security and Rural Investment Act of 2002 (Act). Section 5321 of the Act amended Subtitle D of the CFRDA by adding section 377 which states that the Secretary of Agriculture “shall not prohibit,” inter alia, “an employee of the Department of Agriculture from obtaining a loan or loan guarantee” under the CFRDA. This provision, in essence, provides that Federal employees of the Department of Agriculture, including employees of FSA, may now obtain FSA direct loans that have been prohibited under paragraph (c) of § 8301.103 of the Supplement. Pursuant to section 5321 of the Act, that regulatory paragraph is null and void. Therefore, the USDA is removing it in this amendatory rulemaking which redesignates the following paragraphs of § 8301.103.

II. Matters of Regulatory Procedure

Administrative Procedure Act

As the amendment is required in order to comply with an express, specific mandate of Congress, notice of proposed rulemaking is unnecessary.

Congressional Review

The Department has found that this rulemaking is not a rule as defined in 5 U.S.C. 804, and, thus, does not require review by Congress. This rulemaking is related to Department personnel.

Executive Orders Nos. 12866 and 12988

Since this rule relates to Department personnel, it is exempt from the provisions of Executive Orders Nos. 12866 and 12988.

Regulatory Flexibility Act

The Department has determined under the Regulatory Flexibility Act (5 U.S.C. 601 et seq.) that this regulation will not have a significant economic impact on a substantial number of small entities because it affects only Department employees and their immediate families.

Paperwork Reduction Act

The Department has determined that the Paperwork Reduction Act (44 U.S.C. chapter 35) does not apply because this regulation does not contain any information collection requirements that require the approval of the Office of Management and Budget.

Environmental Impact

This decision will not have a significant impact upon the quality of the human environment or the conservation of energy resources.

List of Subjects in 5 CFR Part 8301

Conflict of interests, Ethics, Executive branch standards of conduct, Government employees.

Dated: August 29, 2002.
Ann M. Veneman,
Secretary of Agriculture.
Approved: September 9, 2002.
Amy L. Comstock,
Director, Office of Government Ethics.

For the reasons set forth in the preamble, Part 8301 of title 5 of the Code of Federal Regulations is amended as follows:

PART 8301—SUPPLEMENTAL STANDARDS OF ETHICAL CONDUCT FOR EMPLOYEES OF THE DEPARTMENT OF AGRICULTURE

1. The authority citation for part 8301 continues to read as follows:

Authority: 5 U.S.C. 301, 7301; 5 U.S.C. App. (Ethics in Government Act of 1978); E.O. 12674, 54 FR 15159, 3 CFR, 1989 Comp., p. 215, as modified by E.O. 12731, 55 FR 42547, 3 CFR, 1990 Comp., p. 306; 5 CFR 2635.105, 2635.403(a), 2635.803.

2. Section 8301.103 is amended by:

a. Removing paragraph (c);

b. Redesignating paragraphs (d) through (f) as paragraphs (c) through (e), respectively;

c. Removing the paragraph reference to “(d)(1)” in the text of redesignated paragraph (c)(2) and adding the paragraph reference “(c)(1)” in its place;

d. Removing the paragraph reference to “(e)(2)” in the text of redesignated paragraph (d)(1) and adding the paragraph reference “(d)(2)” in its place; and

e. Paragraph reference to “(e)(1)” in the introductory text of redesignated paragraph (d)(2) and in the redesignated paragraph (d)(2)(ii) and adding the paragraph reference “(d)(1)” in their place in each instance.

[FR Doc. 02-23489 Filed 9-13-02; 8:45 am]

BILLING CODE 3410-01-M